DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request that the Office of Management and Budget (OMB) approve the proposed information collection project: “Collection of Information for Agency for Healthcare Research and Quality's (AHRQ) Consumer Assessment of Healthcare Providers and Systems (CAHPS®) Health Plan Survey Comparative Database.” In accordance with the Paperwork Reduction Act, 44 U.S.C. 3501-3520, AHRQ invites the public to comment on this proposed information collection.

This proposed information collection was previously published in the Federal Register on January 25th, 2010 and allowed 60 days for public comment. No comments were received. The purpose of this notice is to allow an additional 30 days for public comment.

DATES: Comments on this notice must be received by April 30, 2010.

ADDRESSES: Written comments should be submitted to: AHRQ's OMB Desk Officer by fax at (202) 395-6974 (attention: AHRQ's desk officer) or by e-mail at OIRA_submission@omb.eop.gov (attention: AHRQ's desk officer).

Copies of the proposed collection plans, data collection instruments, and specific details on the estimated burden can be obtained from the AHRQ Reports Clearance Officer.

FOR FURTHER INFORMATION CONTACT: Doris Lefkowitz, AHRQ Reports Clearance Officer, (301) 427-1477, or by e-mail at doris.letkowitz@AHRQ.hhs.gov.

SUPPLEMENTARY INFORMATION:

Proposed Project

Collection of Information for Agency for Healthcare Research and Quality's (AHRQ) Consumer Assessment of Healthcare Providers and Systems (CAHPS) Health Plan Survey Comparative Database

The Agency for Healthcare Research and Quality (AHRQ) requests that the Office of Management and Budget (OMB) approve, under the Paperwork Reduction Act of 1995, AHRQ's collection of information for the AHRQ Consumer Assessment of Healthcare Providers and Systems (CAHPS) Database for Health Plans. The CAHPS Health Plan Database consists of data from the AHRQ CAHPS Health Plan Survey.

Health plans in the U.S. are asked to voluntarily submit data from the survey to AHRQ, through its contractor, Westat. The CAHPS Database was developed by AHRQ in 1998 in response to requests from health plans, purchasers, and the Centers for Medicare & Medicaid Services (CMS) to provide comparative data to support public reporting of health plan ratings, health plan accreditation and quality improvement.

The CAHPS Health Plan Survey is a tool for collecting standardized information on enrollees' experiences with health plans and their services. The development of the CAHPS Health Plan Survey began in 1995, when AHRQ awarded the first set of CAHPS grants to Harvard, RTI, and RAND. In 1997 the CAHPS 1.0 survey was released by the CAHPS Consortium. The CAHPS Consortium refers to the research organizations involved in the development, dissemination, and support of CAHPS products. The current Consortium includes AHRQ, CMS, RAND, Yale School of Public Health, and Westat.

Since that time, the Consortium has clarified and updated the survey instrument to reflect field test results; feedback from industry experts; reports from health plan participants, data collection vendors, and other users; and evidence from cognitive testing and focus groups. In November 2006, the CAHPS Consortium released the latest version of the instrument: The CAHPS Health Plan Survey 4.0. The development of this update to the Health Plan Survey has been part of the “Ambulatory CAHPS (A-CAHPS) Initiative,” which arose as a result of extensive research conducted with users. AHRQ released the CAHPS Health Plan Survey 4.0, along with guidance on how to customize and administer it. The National Quality Forum endorsed the 4.0 version of the Health Plan Survey in July 2007.

The CAHPS Health Plan Database uses data from AHRQ's standardized CAHPS Health plan survey to provide comparative results to health care purchasers, consumers, regulators and policy makers across the country. The Database also provides data for AHRQ's annual National Healthcare Quality and National Healthcare Disparities Reports. Voluntary participants include public and private employers, State Medicaid agencies, State Children's Health Insurance Programs (SCHIP), CMS, and individual health plans.

The collection of information for the CAHPS Database for Health Plans is being conducted pursuant to AHRQ's statutory authority to conduct and support research on health care and systems for the delivery of such care, including activities with respect to the quality, effectiveness, efficiency, appropriateness and value of health care services. See 42 U.S.C. 299a(a)(1).

Method of Collection

Information for the CAHPS Health Plan Database has been collected by AHRQ through its contractor Westat on an annual basis since 1998. Health plans are asked to voluntarily submit their data to the comparative database in June of each year. The data are cleaned with standardized programs, then aggregated and used to produce comparative results for commercial (adult and child), Medicaid (adult and child), and Medicare (adult) populations for the two most recent years. In addition, individual participant reports are produced that display the participating organizations' own results compared to appropriate comparisons derived from the National, regional and product-type distributions on a password-protected section of the online reporting system.

The CAHPS Health Plan Database receives the data from three sources. First, commercial health plan data is purchased by the CAHPS Health Plan Database directly from the National Committee for Quality Assurance (NCQA). The data is collected by NCQA from those who participate in its accreditation program. Second, Medicare data is provided by CMS through an agency data use agreement. The Medicare data is collected by CMS and their contractor from beneficiaries who were enrolled in a managed care health plan. Third, Medicaid data is collected by the CAHPS Health Plan Database. Medicaid agencies and their vendors directly submit their Medicaid health plan survey data to the CAHPS Health Plan Database through an online data submission system. Data submitted by Medicaid plans are compiled along with the data received from CMS and NCQA to comprise the CAHPS Health Plan Survey comparative database.

Estimated Annual Respondent Burden

Each year State Medicaid agencies and individual health plans decide whether to participate in the database and prepare their materials and dataset for submission to the CAHPS Health Plan Database. Participating organizations are typically State Medicaid agencies with multiple health plans. However, individual health plans are also encouraged to submit their data to the CAHPS Database. The number of data submissions per registrant varies from participant to participant and year to year because some participants submit data for multiple health plans, while others may only submit survey data for one plan.

Each organization that decides to participate in the database must have their POC complete a registration form providing their contact information for access to the on-line data submission system, sign and submit a data use agreement (DUA), and provide health plan characteristics such as health plan name, product type, type of population surveyed, health plan state, and plan name to appear in the reporting of their results.

Each vendor that submits files on behalf of a Medicaid agency or individual health plan must also complete the registration form in order to obtain access to the on-line submission system. The vendor, on behalf of their client, may also complete additional information about survey administration (CAHPS survey version used, mode of survey administration, total enrollment count, description of how the sample was selected), submit a copy of the questionnaire used, and submit one data file per health plan. Commercial health plan data is received directly from NCQA. Medicare health plan data is received from CMS.

The burden hours and costs below pertain only to the collection of Medicaid data from State Medicaid agencies and individual Medicaid health plans because those are the only entities that submit data through the data submission process (other data are obtained directly from NCQA and CMS as noted earlier in Section 2). In 2009, a total of 60 participants, representing 45 individual organizations and 15 vendors, submitted data for 244 health plans (an average of about 4 health plans per participant).

Exhibits 1 and 2 are based on the estimated number of individual participants (participating organizations and/or vendors) who will complete the database submission steps and forms in the coming years, and is not based on the total number of health plans that are submitted. The number of respondents and burden hours are based on an estimated slight increase in the number of participants to 70 in 2010 and 2011.

In Exhibit 1, the 70 participants that will complete the registration form and submit information to the CAHPS Health Plan Database are a combination of an estimated 50 State Medicaid agencies and individual health plans, and 20 estimated vendors. The 50 State Medicaid agencies or individual health plans will sign and submit a DUA. Vendors do not sign or submit DUAs. Health plan information and data files are submitted for each health plan. Exhibit 1 shows an estimated total of 280 health plans (70 estimated participants with 4 health plans per participant). The total burden hours for completing the registration, DUA and data submission process are estimated to be 722 hours.

Exhibit 1—Estimated Annualized Burden Hours
Form name | Number of respondents/ POCs | Number of responses per POC | Hours per response | Total burden hours
Registration Form and Data Submission * | 70 | 1 | 7.6 | 532
Data Use Agreement ** | 50 | 1 | 1 | 50
Health Plan Information *** | 70 | 4 | 30/60 | 140
Total | 190 | NA | NA | 722
* The online Registration Form requires about 5 minutes to complete; however over 7 hours is required to plan/prepare for the data submission. This includes the amount of time the participating organization, and others (CEO, lawyer, vendor) typically spend deciding whether to participate in the database and preparing their materials and dataset for submission to the CAHPS Health Plan Database and performing the submission.
** The Data Use Agreement requires about 3 minutes to complete; however about 57 minutes is required for the participating organization to review the agreement prior to signing. This includes the review by the organization's CEO or legal department.
*** A few health plans may submit their data directly, however most health plan data will be submitted by the POC.

Exhibit 2 shows the estimated annualized cost burden based on the respondents' time to complete the submission process. The cost burden is estimated to be $31,046 annually.

Exhibit 2—Estimated Annualized Cost Burden
Form name | Number of respondents | Total burden hours | Average hourly wage rate ** | Total cost burden
Registration Form and Data Submission * | 70 | 532 | $43.00 | $22,876
Data Use Agreement | 50 | 50 | 43.00 | 2,150
Health Plan Information | 70 | 140 | 43.00 | 6,020
Total | 190 | 722 | NA | 31,046
* Wage rates were calculated using the mean hourly wage based on occupational employment and wage estimates from the Dept of Labor, Bureau of Labor Statistics' May 2008 National Industry-Specific Occupational Employment and Wage Estimates NAICS 622000—located at http://www.bls.gov/oes/current/oes_nat.htm.
** Wage rate of $43.00 is based on the mean hourly wages for Medical and Health Services Managers. Wage rate of $42.67 is the weighted mean hourly wage for: Medical and Health Services Managers ($42.67 × 2.6 hours = $110.95), Lawyers ($59.98 × .5 hours = $29.99), Chief Executives ($89.16 × .5 hours = $44.58), and Computer programmer ($35.32 × 4 hours = $141.28) [Weighted mean = ($110.95 + 29.99 + 44.58 = 141.28)/7.6 hours = $326.80/7.6 hours = $43.00/hour].

Estimated Annual Costs to the Federal Government

Exhibit 3 shows the estimated annualized cost to the government for developing, maintaining and managing the Health Plan Database and analyzing the data and reporting results. The cost is estimated to be $260,000 annually. Annualized costs for collecting and processing the CAHPS Health Plan Database are based upon 10 years of historical project costs. Start-up costs were present in the early years of the database only.

Exhibit 3—Estimated Annualized Cost
Cost component | Annualized cost
Database Maintenance | $50,000
Data Submission | 100,000
Data Analysis and Reporting | 110,000
Total | 260,000

Request for Comments

In accordance with the above-cited Paperwork Reduction Act legislation, comments on AHRQ's information collection are requested with regard to any of the following: (a) Whether the proposed collection of information is necessary for the proper performance of AHRQ healthcare research and healthcare information dissemination functions, including whether the information will have practical utility; (b) the accuracy of AHRQ's estimate of burden (including hours and costs) of the proposed collection(s) of information; (c) ways to enhance the quality, utility, and clarity of the information to be collected; and (d) ways to minimize the burden of the collection of information upon the respondents, including the use of automated collection techniques or other forms of information technology.

Comments submitted in response to this notice will be summarized and included in the Agency's subsequent request for OMB approval of the proposed information collection. All comments will become a matter of public record.

Dated: March 19, 2010.
Carolyn M. Clancy,
Director.

[FR Doc. 2010-6780 Filed 3-30-10; 8:45 am]

BILLING CODE 4160-90-M